INTER-AMERICAN FOUNDATION

30-Day Notice for Soliciting and Assessing Feedback From IAF Grantees (PRA)

AGENCY: Inter-American Foundation.

ACTION: Notice and request for comment.

SUMMARY: In compliance with the Paperwork Reduction Act (PRA) of 1995, this notice announces that the Inter-American Foundation (IAF) will submit that collection of information abstracted below to the Office of Management and Budget (OMB) for review and comment. The PRA submission describes the nature of the information collection and its expected cost and burden and it includes the actual data collection instrument.

DATES: Written comments must be submitted to the office listed in the address section below within 30 days from the date of this publication in the Federal Register.

FOR FURTHER INFORMATION CONTACT: Kaitlin Stastny, Inter-American Foundation, 202.803.6091 or via email to kstastny@iaf.gov.

SUPPLEMENTARY INFORMATION: Title of Collection: Soliciting and Assessing Feedback From IAF Grantees.

OMB Control Number: will be assigned upon OMB approval.

Type of Review: New Collection (Request for a new OMB control number).

Affected Public: IAF grantees.

Estimated Number of IAF Grantee Survey Respondents: 400.

Estimated Number of IAF Grantee Survey Responses: 340.

Average Time per IAF Grantee Survey: 37 minutes.

Total Estimated IAF Grantee Survey Burden Time: 246.67 hours.

Frequency: Once.

Obligation to Respond: Voluntary.

Abstract: The IAF works to promote sustainable development in Latin America and the Caribbean by offering small investments directly to civil society organizations through funding actions, such as grants and cooperative agreements. By gathering perceptions from grantees on how the IAF works as a funder, the IAF is able to assess its performance and identify opportunities for improvements. The IAF seeks to work with a contractor to independently carry out this survey with IAF grantees. The contractor will use an online survey with a set of standardized questions focused primarily on grant processes, such as the approach to grant selection, the time lapse between selection and commitment, and reporting and evaluation. The contractor will also apply these standardized questions to other funders, thus providing the IAF with findings relative to that of other comparable organizations.

Request for Comments: The IAF issued a 60-day Federal Register notice on August 30, 2022 (87 FR 52990). Comments were solicited and continue to be invited on: (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology, e.g., permitting electronic submission of responses. Comments submitted in response to this notice will be summarized and/or included in the request for OMB approval. All comments will become a matter of public record.

A Notice by the Inter-American Foundation on October 27, 2022.
Natalia Mandrus,
Acting General Counsel.

[FR Doc. 2022-23998 Filed 11-3-22; 8:45 am]

BILLING CODE 7025-01-P